DEPARTMENT OF COMMERCE

National Oceanic and Atmospheric Administration

[I.D. 051703A]

NOAA's New Strategic Plan

AGENCY: National Oceanic and Atmospheric Administration (NOAA), Commerce.

ACTION: Notice; request for comments.

SUMMARY: The National Oceanic and Atmospheric Administration (NOAA) is the premier United States agency for environmental assessment, prediction and management providing broad benefits to the national economy, public safety and environment. NOAA has recently completed a new strategic plan for the agency responding to growing national needs for environmental information and management. NOAA's new Strategic Plan is now the blueprint for the direction of NOAA's core and future missions and is being institutionalized in every aspect of NOAA's resource planning and priority setting. An important step in this process is aligning all organizational components within NOAA to the Strategic Plan. To that end, NOAA Line organizations have now drafted new strategic plans together with new performance measures and performance metrics.

DATES: Comments will be accepted through June 20, 2003.

ADDRESSES: Send comments to Ms. Kelley Smith, NOAA Strategic Planning, Program Planning and Integration Office, National Oceanic and Atmospheric Administration (NOAA), Room 15755, 1315 East-West Highway, Silver Spring, MD 20910.

FOR FURTHER INFORMATION CONTACT: Ms. Kelley Smith, phone: 301-713- 1622, ext. 197 , fax: 301-713-0585.

Status: NOAA encourages all stakeholders and users to review the NOAA Line Organization's draft Strategic Plans. All comments must be submitted by individuals or individual organizations. Group consensus comments will not be accepted. The drafts of the NOAA Line Organization's Strategic Plans and directions for submitting comments have been posted at http://www.osp.noaa.gov/. Comments, questions and suggestions are welcomed from both scientific and stakeholder communities. Comments on these draft Strategic Plans can be submitted up to June 20, 2003, by using the web site or by submitting directly to the following e-mail address: strategic.planning@noaa.gov.

Matters To Be Considered: All comments received will be reviewed and considered in the final drafting of NOAA's new Line Organization's Strategic Plans.

Dated: May 20, 2003.
Joyce Wood,
Director, NOAA Strategic Planning Office.

[FR Doc. 03-13273 Filed 5-27-03; 8:45 am]

BILLING CODE 3510-12-S